FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than October 12, 2007.

A. Federal Reserve Bank of Minneapolis (Jacqueline G. King, Community Affairs Officer) 90 Hennepin Avenue, Minneapolis, Minnesota 55480-0291:

1. Michael L. Frei, Pickstown, South Dakota; to join a group acting in concert by acquiring voting shares of Commercial Holding Company, and thereby indirectly acquire voting shares of Commercial State Bank, both of Wagner, South Dakota.

B. Federal Reserve Bank of Kansas City (Todd Offenbacker, Assistant Vice President) 925 Grand Avenue, Kansas City, Missouri 64198-0001:

1. Joseph M. Sullivan, as co-trustee; to retain voting shares of Grant County Bank Employee Stock Ownership Plan, and thereby indirectly retain voting shares of Resource One, Inc., and Grant County Bank, all of Ulysses, Kansas.

Board of Governors of the Federal Reserve System, September 24, 2007.
Robert deV. Frierson,
Deputy Secretary of the Board.

[FR Doc. E7-19094 Filed 9-26-07; 8:45 am]

BILLING CODE 6210-01-S